OFFICE OF THE UNITED STATES TRADE REPRESENTATIVE

Conforming Amendment to Product Exclusion and Extensions: China's Acts, Policies, and Practices Related to Technology Transfer, Intellectual Property, and Innovation

AGENCY: Office of the United States Trade Representative (USTR).

ACTION: Notice.

SUMMARY: On September 30, 2020, and effective November 30, 2020, U.S. Customs and Border Protection (CBP) issued a notice on the tariff classification of certain nonwoven wipes. To conform with the tariff classification set out in that notice, USTR is making a technical amendment to a product exclusion in the Section 301 investigation of China's Acts, Policies, and Practices Related to Technology Transfer, Intellectual Property, and Innovation.

DATES: The conforming amendment in the Annex to this notice is effective November 30, 2020. CBP will issue instructions on entry guidance and implementation.

FOR FURTHER INFORMATION CONTACT: For general questions about this notice, contact Associate General Counsel Philip Butler or Assistant General Counsel Rachel Komito at (202) 395-5725. For specific questions on customs classification or implementation of the product exclusion identified in the Annex to this notice, contact traderemedy@cbp.dhs.gov.

SUPPLEMENTARY INFORMATION:

A. Background

On September 30, 2020, CBP issued a notice on the tariff classification of certain nonwoven wipes. Revocation of Eleven Ruling Letters, Modification of One Ruling Letter and Proposed Revocation of Treatment Relating to the Tariff Classification of Nonwoven Wipes, Customs Bulletin and Decisions, Vol 54, No. 38, at 58 (Sep. 30, 2020). CPB's notice affects a currently applicable product exclusion for `disposable cloths of nonwoven textile materials impregnated, coated or covered with organic surface-active preparations for washing the skin, put up for retail sale (described in statistical reporting number 3401.30.5000)' in this Section 301 investigation, as set out at 85 FR 27489 (May 8, 2020), 85 FR 48600 (August 11, 2020), 85 FR 85831 (December 29, 2020), 86 FR 13785 (March 10, 2021), 86 FR 54011 (September 29, 2021), and 86 FR 63438 (November 16, 2021).

B. Technical Amendment to Exclusion

The Annex to this notice conforms an existing product exclusion with the September 2020 revocation of treatment relating to the tariff classification of nonwoven wipes. In particular, the Annex makes technical amendments to U.S. notes 20(iii)(37), 20(qqq)(16) and 20(sss)(iii)(13) to subchapter III of chapter 99 of the Harmonized Tariff Schedule of the United States (HTSUS), as set out in the Annexes to the notices published at 85 FR 48600 (August 11, 2020), 85 FR 85831 (December 29, 2020), 86 FR 13785 (March 10, 2021), 86 FR 54011 (September 29, 2021), and 86 FR 63438 (November 16, 2021). Like all exclusions under this Section 301investigation, this technical correction applies to entries of goods that are not liquidated or to entries that are liquidated but not final.

Annex

A. Effective with respect to goods entered for consumption, or withdrawn from warehouse for consumption, on or after 12:01 a.m. eastern daylight time on November 30, 2020 and before 11:59 p.m. eastern daylight time on December 31, 2020, note 20(iii)(37) to subchapter III of chapter 99 of the Harmonized Tariff Schedule of the United States (HTSUS) is amended by deleting “3401.30.5000” and by inserting “3401.30.5000 prior to November 30, 2020; described in statistical reporting number 3401.11.5000 effective November 30, 2020” in lieu thereof.

B. Effective with respect to goods entered for consumption, or withdrawn from warehouse for consumption, on or after 12:01 a.m. eastern daylight time on January 1, 2021 and before 11:59 p.m. eastern daylight time on November 30, 2021, note 20(qqq)(16) to subchapter III of chapter 99 of the HTSUS is amended by deleting “3401.30.5000” and by inserting “3401.11.5000” in lieu thereof.

C. Effective with respect to goods entered for consumption, or withdrawn from warehouse for consumption, on or after 12:01 a.m. eastern daylight time on December 1, 2021 and before 11:59 p.m. eastern daylight time on May 31, 2022, note 20(sss)(iii)(13) to subchapter III of chapter 99 of the HTSUS is amended by deleting “3401.30.5000” and by inserting “3401.11.5000” in lieu thereof.

Greta Peisch,
General Counsel, Office of the United States Trade Representative.

[FR Doc. 2021-26482 Filed 12-6-21; 8:45 am]

BILLING CODE 3290-F2-P